DEPARTMENT OF THE INTERIOR

Bureau of Land Management

[ID-310-1220-PA-241A]

Notice of Order Closing Public Lands to Human Entry, Idaho

AGENCY: Bureau of Land Management, Interior.

ACTION: Notice.

SUMMARY: To protect fragile, wintering mule deer, the Bureau of Land Management (BLM) is closing to human entry seasonally, during each of three consecutive years starting in 2007, certain public lands near the South Fork of the Snake River, east of Heise, Idaho. Also, BLM will be considering a permanent, seasonal closure to protect wintering mule deer herds.

DATES: The closure for the winter of 2007-2008 will take effect on December 1, 2007. Closures in 2008 and 2009 will take effect on December 1 of each year, respectively. Closures will end on April 30 of the following year, unless sooner terminated by the BLM authorized officer.

ADDRESSES: The address of the BLM Authorized Officer is: Field Manager, Upper Snake Field Office (USFO), 1405 Hollipark Drive, Idaho Falls, Idaho 83401.

FOR FURTHER INFORMATION CONTACT: Monica Zimmerman, BLM Outdoor Recreation Planner, (208) 524-7543; or Theresa Mathis, BLM Wildlife Biologist, (208) 524-7547.

SUPPLEMENTARY INFORMATION: While monitoring the progress of wintering wildlife in February of 2006, field personnel of the Idaho Department of Fish and Game (IDFG), Region 6 office in Idaho Falls, became aware of an increase in mule deer fawn and adult mortality rates due to recent cold temperatures and increasing human disturbances. The IDFG, therefore, requested that BLM order the closure to human entry seasonally, during 2006-2007, 2007-2008 and 2008-2009, of public lands in the Stinking Springs and Wolf Flat areas near the South Fork of the Snake River, east of Heise, Idaho. Closure dates are as stated above. The purpose of the closures is to prevent undue and unnecessary disturbance and harm to mule deer herds and other big game populations migrating to crucial winter range habitat. This initiative is being implemented in partnership with the IDFG Region 6 office. The pertinent BLM case file is available for public review in the USFO office at the address stated above. The authority for the requested closures is 43 CFR 8364.1(a), which states “to protect persons, property, and public lands and resources, the authorized officer may issue an order to close or restrict use of designated public lands.” This notice identifies by legal land description the precise areas that are closed to human entry.

Subject to valid existing rights, it is hereby ordered as follows:

Stinking Springs

Effective immediately, BLM-administered public lands located in the Stinking Springs area north of the South Fork of the Snake River near Heise, Idaho, described below, are closed to human entry within the dates specified above in this notice. Excepted from this closure order are entries for administrative use by BLM and use by BLM permittees, IDFG Conservation Officers, and local law enforcement, as required. The Stinking Springs Trail will remain open from May 1 to November 30 of each year. The Stinking Springs area is a crucial wildlife area lying northeast of Idaho Falls, Idaho. The area is bounded generally by the South Fork of the Snake River on the south and west, and the Kelly Canyon Road and Targhee National Forest on the north and east. The legal description of the subject lands is as follows:

Boise Meridian, Idaho

T. 4 N., R. 41 E.,

Sec. 32, SE¼, SE¼ NE¼, and lands east of the Kelly Canyon Road in the NE¼ NE¼, NW¼NE¼, SW¼ NE¼, NE¼ SW¼;

Sec. 33, All.

T. 3 N., R. 41 E.,

Sec. 2, SW¼;

Sec. 3, All;

Sec. 4, SE¼, SE¼ SW¼, NE¼ SW¼, NW¼ SW¼;

Sec. 5, NW¼ NE¼;

Sec. 8, Lots 6 and 8;

Sec. 9, Lots 2 and 3, NE¼, NW¼, SE¼, NE¼ SW¼;

Sec. 10, NW¼, SW¼, NE¼ NE¼, NW¼ NE¼, SW¼ NE¼;

Sec. 11, Lot 2, N½ NW¼;

Sec. 15, Lots 7 and 8, NW¼ NW¼;

Sec. 16, Lots 5 and 6.

South Fork of the Snake River (Wolf Flat)

Effective immediately, BLM-administered public lands located in the Stinking Springs area north of the South Fork of the Snake River near Heise, Idaho, described below, are closed to human entry within the dates specified above in this notice. Excepted from this closure order are entries for administrative use by BLM and use by BLM permittees, IDFG Conservation Officers, and local law enforcement, as required. The legal description of the subject lands is as follows:

Wolf Flat: Those portions of the following described lands lying north of Heise Road, adjacent to the South Fork Snake River, in the following areas:

Boise Meridian, Idaho

T. 3 N., R. 41 E.,

Sec. 10, Lots 1 and 2;

Sec. 11, Lots 3 and 4;

Sec. 15, Lot 6.

Authority

This emergency closure notice is issued under the authority of 43 CFR 8364.1(c), 8341.2 and 9268.3. Violations of this closure are punishable by a fine not to exceed $1,000 or imprisonment not to exceed 12 months. Persons who are administratively exempt from the closure include any Federal, State, or local officer or employee acting within the scope of their duties, members of any organized rescue or fire-fighting force in the performance of an official duty, or any person holding written permission from the BLM.

Please be further advised that BLM will be considering a permanent, annual, seasonal closure to protect wintering mule deer herds on a long-term basis. This proposal and its potential environmental effects will be studied through a public process and environmental analysis conducted in accordance with NEPA.

Wendy Reynolds,
Upper Snake Field Manager.

[FR Doc. E7-4690 Filed 3-14-07; 8:45 am]

BILLING CODE 4310-GG-P